Presidential Determination No. 2005-09 of December 6, 2004

Waiver of Restrictions on Assistance to Russia under the Cooperative Threat Reduction Act of 1993 and Title V of the FREEDOM Support Act

Memorandum for the Secretary of State

Consistent with the authority vested in me by section 1306 of the national Defense Authorization Act for Fiscal Year 2003 (Public Law 107-314), I hereby certify that waiving the restrictions contained in subsection (d) of section 1203 of the Cooperative Threat Reduction Act of 1993 (22 U.S.C. 5952), as amended, and the requirements contained in section 502 of the FREEDOM Support Act (22 U.S.C. 5852) during Fiscal Year 2005 with respect to the Russian Federation is important to the national security interests of the United States.

You are authorized and directed to transmit to the Congress this certification and the associated report (including its classified annex) that has been prepared by my Administration consistent with section 1306(b) of Public Law 107-314. You are further authorized and directed to arrange for the publication of this certification in the Federal Register.

B

THE WHITE HOUSE,

Washington, December 6, 2004.

[FR Doc. 04-27465

Filed 12-13-04; 8:45 am]

Billing code 4710-10-P